DEPARTMENT OF JUSTICE

Notice of Lodging Proposed Consent Decree

In accordance with Departmental Policy, 28 CFR 50.7, notice is hereby given that a proposed Consent Decree in United States v. Donald Lee Prow, et al., Civil Action No. 05-1452-RHK (D. Minn.), was lodged with the United States District Court for the District of Minnesota on March 2, 2006.

This proposed Consent Decree concerns a complaint filed by the United States against Donald Lee Prow, individually and d/b/a/ Rochester Topsoil, Inc.; Donald Bryce Prow, individually and d/b/a/ Rochester Topsoil, Inc.; and Rochester Topsoil, Inc., pursuant to section 309(b), 309(d), and 404 of the Clean Water Act (“CWA”), 33 U.S.C. 1319(b), 1319(d) and 1344, to obtain injunctive relief from and impose civil penalties against the Defendants for violating the Clean Water Act by discharging pollutants without a permit, and in violation of a permit, into waters of the United States. The proposed Consent Decree resolves these allegations by requiring the Defendants to restore the impacted areas, perform mitigation and pay a civil penalty.

The Department of Justice will accept written comments relating to this proposed Consent Decree for thirty (30) days from the date of publication of this Notice. Please address comments to Joshau M. Levin, Senior Attorney, U.S. Department of Justice, Environmental and Natural Resources Division, Environmental Defense Section, P.O. Box 23986, Washington, DC 20026-3986, and refer to United States v. Don Prow, et al., DJ #90-5-1-1-16552.

The proposed Consent Decree may be examined at the Clerk's Office, United States District Court for the District of Minnesota, at either of two addresses: 202 U.S. Courthouse, 300 South Fourth Street, Minneapolis, MN 55415, or 180 E. Fifth Street, St. Paul, MN 55101. In additional, the proposed Consent Decree may be viewed at http://www.usdoj.gov/enrd/open.html.

Dated: March 3, 2006.
Scott A. Schachter,
Assistant Chief, Environmental Defense Section, Environment and Natural Resources Division.

[FR Doc. 06-2509 Filed 3-14-06; 8:45 am]

BILLING CODE 4410-15-M